DEPARTMENT OF COMMERCE

International Trade Administration

[C-570-171]

Disposable Aluminum Containers, Pans, Trays, and Lids From the People's Republic of China: Final Affirmative Countervailing Duty Determination and Final Affirmative Determination of Critical Circumstances; and Disposable Aluminum Containers, Pans, Trays, and Lids From the People's Republic of China: Antidumping and Countervailing Duty Orders; Correction

AGENCY: Enforcement and Compliance, International Trade Administration, Department of Commerce.

ACTION: Notice; correction.

SUMMARY: The U.S. Department of Commerce (Commerce) published a notice in the Federal Register of March 11, 2025, in which Commerce published the final determination of the countervailing duty (CVD) investigation for disposable aluminum containers, pans, trays, and lids (disposable aluminum containers) from the People's Republic of China (China). In this notice, Commerce did not identify the cross-owned affiliate of Henan Aluminium Corporation in the final determination. Additionally, Commerce published a notice in the Federal Register of May 8, 2025, in which Commerce published the CVD order for disposable aluminum containers from China. In this notice, Commerce did not identify the cross-owned affiliate of Henan Aluminium Corporation, and also misspelled Henan Aluminium Corporation's name in the sections entitled “Background” and “Estimated CVD Subsidy Rates.”

FOR FURTHER INFORMATION CONTACT: Brian Warnes, AD/CVD Operations, Office VII, Enforcement and Compliance, International Trade Administration, U.S. Department of Commerce, 1401 Constitution Avenue NW, Washington, DC 20230; telephone: (202) 482-0028.

SUPPLEMENTARY INFORMATION:

Background

On March 11, 2025, Commerce published in the Federal Register the Final Determination of the CVD investigation of disposable aluminum containers from China.¹ In this notice, Commerce did not identify Henan Aluminium Corporations's cross-owned affiliate.²

¹ See Disposable Aluminum Containers, Pans, Trays, and Lids from the People's Republic of China: Final Affirmative Countervailing Duty Determination and Final Affirmative Determination of Critical Circumstances, 90 FR 11703 (March 11, 2025) (Final Determination).

² Commerce also did not identify Henan Aluminium Corporation's cross-owned affiliates in the notice of the preliminary determination of the CVD order on disposable aluminum containers from China. See Disposable Aluminum Containers, Pans, Trays, and Lids from the People's Republic of China: Preliminary Affirmative Countervailing Duty Determination, Preliminary Affirmative Determination of Critical Circumstances, and Alignment of Final Determination With Final Antidumping Duty Determination, 89 FR 85495 (October 28, 2024). However, we are not making a correction to that notice as the information was superseded by the Final Determination.

Further, on May 8, 2025, Commerce published in the Federal Register the CVD order for disposable aluminum containers from China.³ In this notice, Commerce did not identify Henan Aluminium Corporation's cross-owned affiliate.⁴ Also in the CVD Order, Commerce misspelled Henan Aluminium Corporation as “Henan Aluminum Corporation” in the sections entitled “Background” and “Estimated CVD Subsidy Rates.” ⁵

³ See Disposable Aluminum Containers, Pans, Trays, and Lids from the People's Republic of China: Antidumping and Countervailing Duty Orders, 90 FR 19467 (May 8, 2025) (CVD Order).

⁴ Id., 90 FR at 19469.

⁵ Id., 90 FR at 19467 and 19469.

Correction 1

In the Federal Register of March 11, 2025, in FR Doc 2025-03834, on page 11704, in the table under the heading “Final Determination,” correct the first line of the table by adding a footnote with Henan Aluminium Corporation, as follows:

⁶ Commerce finds the following company to be cross-owned with Henan Aluminium Corporation: Anhui Aluminium Corporation.

Company | Subsidy rate (percent ad valorem)
Henan Aluminium Corporation ⁶ | * 317.85
Zhejiang Acumen Living Technology Co., Ltd | * 317.85
All Others | 317.85
* Rate based on facts available with adverse inferences.

Correction 2

In the Federal Register of May 8, 2025, in FR Doc 2025-80889, on page 19467 in the first paragraph of the “Background” section, correct the misspelled name of “Henan Aluminum Corporation” to Henan Aluminium Corporation.

Also in FR Doc 2025-80889, on page 19469, in the table under the heading “Estimated CVD Subsidy Rates,” correct the first line of the table from the misspelled name of “Henan Aluminum Corporation” to Henan Aluminium Corporation, and add a footnote to the corrected name, as follows:

⁷ Commerce finds the following company to be cross-owned with Henan Aluminium Corporation: Anhui Aluminium Corporation.

Company | Subsidy rate (percent ad valorem)
Henan Aluminium Corporation ⁷ | * 317.85
Zhejiang Acumen Living Technology Co., Ltd | * 317.85
All Others | 317.85
* Rate based on facts available with adverse inferences.

Notification to Interested Parties

This notice is issued and published in accordance with sections 705(a) and 706(a) of the Tariff Act of 1930, as amended, 19 CFR 351.210(b)(1) and 19 CFR 351.211(b).

Dated: May 16, 2025.
Scot Fullerton,
Acting Deputy Assistant Secretary for Antidumping and Countervailing Duty Operations.

[FR Doc. 2025-09123 Filed 5-20-25; 8:45 am]

BILLING CODE 3510-DS-P